DEPARTMENT OF TRANSPORTATION

Federal Motor Carrier Safety Administration

[Docket No. FMCSA-2007-0093]

Electronic Signatures on Documents: East West Resort Transportation, LLC, and TMS, LLC, dba Colorado Mountain Express (CME), Application for Exemption

AGENCY: Federal Motor Carrier Safety Administration (FMCSA), DOT.

ACTION: Notice of application for exemption; request for comments.

SUMMARY: The FMCSA announces that it has received from East West Resort Transportation, LLC, and TMS, LLC, dba Colorado Mountain Express (CME), an application for an exemption from the original signature requirement for a driver on the application for employment required by the Federal Motor Carrier Safety Regulations. The exemption would allow CME to use an electronic signature as a functional equivalent of an original signature on the driver employment applications. CME states that the use of electronic signatures would substantially improve the level of service that it can provide the public, as it would expedite processing of employment applications as well as improve cost efficiency in its business. FMCSA requests public comment on CME's application for exemption.

DATES: Comments must be received on or before January 30, 2008.

ADDRESSES: You may submit comments identified by Federal Docket Management System Number FMCSA-2004-19608 by any of the following methods:

• Web Site: www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number or Regulatory Identification Number (RIN) for this rulemaking. For detailed instructions on submitting comments and additional information on the rulemaking process, see the Public Participation heading below. Note that all comments received will be posted without change to www.regulations.gov, including any personal information provided. Please see the Privacy Act heading below.

Docket: For access to the docket to read background documents or comments received, go to www.regulations.gov at any time or to the ground floor, room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://docketsinfo.dot.gov.

Public participation: The www.regulations.gov Web site is generally available 24 hours each day, 365 days each year. You can get electronic submission and retrieval help and guidelines under the “help” section of the www.regulations.gov Web site and also at the DOT's http://docketsinfo.dot.gov Web site. If you want us to notify you that we received your comments, please include a self-addressed, stamped envelope or postcard or print the acknowledgement page that appears after submitting comments online.

Comments received after the comment closing date will be included in the docket, and we will consider late comments to the extent practicable. FMCSA may, however, make a final decision on the application for exemption at any time after the close of the comment period.

ADDRESSES: You may submit comments identified by DOT DMS Docket Number FMCSA-2007-0093 using any of the following methods:

• Web site: http://dmses.dot.gov/submit/. Follow the instructions for submitting comments on the DOT electronic docket site.

• Fax: 1-202-493-2251.

• Mail: Docket Management Facility; U.S. Department of Transportation, 1200 New Jersey Avenue, SE., Room W12-140, Washington, DC 20590.

• Hand Delivery: Room W12-140 on the ground floor of the West Building, U.S. Department of Transportation, 1200 New Jersey Avenue, SE., Washington, DC, between 9 a.m. and 5 p.m., Monday through Friday, except Federal Holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room W12-140 on the ground floor of the West Building, U.S. Department of Transportation, 1200 New Jersey Avenue, SE., Washington, DC, between 9 a.m. and 5 p.m., Monday through Friday, except Federal holidays. The Docket Management System (DMS) is available 24 hours each day, 365 days each year. If you want us to notify you that we received your comments, please include a self-addressed, stamped envelope or postcard or print the acknowledgement page that appears after submitting comments on-line.

Privacy Act: Anyone may search the electronic form of all comments received into any of DOT's dockets by the name of the individual submitting the comment (or of the person signing the comment, if submitted on behalf of an association, business, labor union, or other entity). You may review DOT's complete Privacy Act Statement in the Federal Register published on April 11, 2000 (65 FR 19477, Apr. 11, 2000). This statement is also available at http://dms.dot.gov.

FOR FURTHER INFORMATION CONTACT: Mr. Thomas Yager, Chief, FMCSA Driver and Carrier Operations Division, Office of Bus and Truck Standards and Operations. Telephone: 202-366-4325. E-mail: MCPSD@fmcsa.dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including the conducting of any safety analyses. The Agency must also provide an opportunity for public comment on the request.

The Agency reviews the safety analyses and the public comments and determines whether granting the exemption would likely achieve a level of safety equivalent to, or greater than, the level that would be achieved by the current regulation (49 CFR 381.305). The decision of the Agency must be published in the Federal Register (49 CFR 381.315(b)) with the reason for denying or, in the alternative, the specific person or class of persons receiving the exemption, and the regulatory provision or provisions from which exemption is granted. The notice must also specify the effective period of the exemption (up to 2 years), and explain the terms and conditions of the exemption. The exemption may be renewed (49 CFR 381.300(b)).

Request for Exemption

East West Resort Transportation, LLC, and TMS, LLC, dba Colorado Mountain Express (CME) is a DOT-registered motor carrier of passengers providing service over regular routes and in special and charter operations. CME operates 235 vehicles and has over 20 years of experience in interstate commerce. CME's regular route operations are provided principally between the Denver International Airport in Denver, Colorado and points in Eagle County, Colorado including the Vail and Beaver Creek ski resorts, the Eagle County, Colorado Regional Airport and points in Pitkin County, Colorado, including the Aspen and Snowmass ski resorts, pursuant to certificates issued by the former Interstate Commerce Commission (ICC). Its authority to provide charter and special operations extends to all points in Colorado.

CME states that it has increasingly made use of computers in conducting its business. It makes maximum use of the Internet in its reservations, maintenance, accounting and virtually all other phases of its business. CME advises that its “goal of making maximum prudent use of computers in its business extends to its goal of ultimate digitization of all data which it both generates and receives in the ordinary course of business, with the result of CME being a `paperless office'.” CME's ultimate goal, according to its exemption application, is to conduct, to the extent possible, all of its internal operations in a digitized format.

CME states that, as a motor common carrier of passengers, it is required to comply—and does comply—with the Federal Motor Carrier Safety Regulations (FMCSRs). One specific section of the FMCSRs—§ 391.21(b) reads: “The application for employment shall be made on a form furnished by the motor carrier. Each application form must be completed by the applicant, must be signed by him, and must contain the following information * * *.”

As one part of its goal to utilize computers in its everyday business activities, in 2006 CME contracted with a vendor to monitor the Federal driver-recordkeeping requirements with a service that helps carriers centralize and manage driver records, and standardizes company-wide transportation safety and compliance programs and resulting data. By providing proactive real-time alerts of important driver information, this system lets CME know at a glance what its compliance level is at any given time, and what work needs to be done to maintain and enhance its compliance efforts.

According to CME, one of the time-consuming drawbacks to the overall process of hiring a driver is the requirement in 49 CFR 391.21(b) of having the application signed by the individual driver applicant. CME's computer system is sophisticated and secure, and applicants who submit an application online do so by entering a user name and password that can only be known to the applicant. CME wishes to make this online application process less complicated by allowing driver-applicants to use an electronic signature, rather than having the application completed online, approved, printed, signed by the driver applicant, and then rescanned into the system.

Due to the savings involved in not maintaining large areas devoted to the storage of paper records, CME has strived to have substantially all of its passenger-service records, including its traffic data, digitized in a manner that minimizes human intervention. CME states that the potential utilization of electronic signatures would substantially improve the level of service that it can provide the public as it reduces the margin of error in its operations, which culminates in considerable cost savings to CME.

CME requests that it be granted an exemption for a period of two years from the requirement to maintain driver employment applications bearing original signatures. A copy of CME's exemption application is in the docket identified at the beginning of this notice.

Request for Comments

In accordance with 49 U.S.C. 31315(b)(4) and 31136(e), FMCSA requests public comment on CME's application for an exemption. The Agency will consider all comments received by close of business on January 30, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: December 19, 2007.
Larry W. Minor,
Associate Administrator for Policy and Program Development.

[FR Doc. E7-25318 Filed 12-28-07; 8:45 am]

BILLING CODE 4910-EX-P